DEPARTMENT OF AGRICULTURE

National Agricultural Statistics Service

Public Notice of Non-Response Follow-Up for the 2017 Census of Agriculture

AGENCY: National Agricultural Statistics Service, USDA.

ACTION: Notice and request for comments.

SUMMARY: In accordance with the Paperwork Reduction Act of 1995, this notice announces the intention of the National Agricultural Statistics Service (NASS) to adjust the non-response follow-up methodology for the 2017 Census of Agriculture.

DATES: Comments on this notice must be received by May 7, 2018 to be assured of consideration.

ADDRESSES: You may submit comments, identified by docket number 0535-0226, by any of the following methods:

• Email: ombofficer@nass.usda.gov. Include docket number above in the subject line of the message.

• E-fax: (855) 838-6382.

• Mail: Mail any paper, disk, or CD-ROM submissions to: David Hancock, NASS Clearance Officer, U.S. Department of Agriculture, Room 5336 South Building, 1400 Independence Avenue SW, Washington, DC 20250-2024.

• Hand Delivery/Courier: Hand deliver to: David Hancock, NASS Clearance Officer, U.S. Department of Agriculture, Room 5336 South Building, 1400 Independence Avenue SW, Washington, DC 20250-2024.

FOR FURTHER INFORMATION CONTACT: Kevin L. Barnes, Associate Administrator, National Agricultural Statistics Service, U.S. Department of Agriculture, (202)720-2707. Copies of this information collection and related instructions can be obtained without charge from David Hancock, NASS—OMB Clearance Officer, at (202) 690-2388 or at ombofficer@nass.usda.gov.

SUPPLEMENTARY INFORMATION:

Title: The 2017 Census of Agriculture.

OMB Control Number: 0535-0226.

Expiration Date of Previous Approval: October 31, 2019.

Type of Request: Notice and request for comment on non-response follow-up for the 2017 Census of Agriculture.

Abstract: The National Agricultural Statistics Service (NASS) is currently conducting the 2017 Census of Agriculture. The Census of Agriculture provides the only basis of consistent, comparable farm data for each county, county equivalent, and State in the United States. A farm is any place that produced and sold, or normally would produce and sell, $1,000 or more of agricultural products during the census reference year.

The Census of Agriculture is required by law under the “Census of Agriculture Act of 1997,” Public Law 105-113, 7 U.S.C. 2204(g).

The original due date for reporting to the 2017 Census of Agriculture was February 5, 2018. Despite receiving up to three paper questionnaires in the mail and being provided opportunities to report on the web, NASS has not received responses from over one-third of the initial Census of Agriculture mail list. Low response rates threaten the quality of the results and the usefulness of the information collected. To ensure proper representation of various geographic areas and sub-populations in the results, NASS will begin contacting non-respondents by using both telephone and in-person interviews. NASS will also make an additional contact to non-respondents via mail to encourage response either by mail or on the web. Due to budget and time limitations, contacting all non-respondents for interviews is not possible; therefore, NASS will randomly select respondents for increased efforts to obtain responses, prioritizing certain geographic areas and sub-populations. This involves a modification of the non-response follow-up procedures identified in the original supporting statements NASS submitted for this information collection (OMB Control Number 0535-0226).

NASS will use historical data to prioritize which non-respondents to contact. Priority will be given to non-respondents: In low-response counties; those believed to produce commodities with low-coverage in past censuses of agriculture; those believed to produce commodities or perform production practices NASS will target in future Census of Agriculture follow-on studies; or those believed to be members of minority groups, which are also known to have lower coverage in previous censuses of agriculture. Priority will also be given to those with a higher response likelihood based on previous contact for NASS censuses and surveys.

NASS will use well-established statistical weighting and calibration techniques to ensure the results from the 2017 Census of Agriculture properly represent the intended population of inference.

Individually identifiable information collected by the Census of Agriculture is governed by Section 1770 of the Food Security Act of 1985 as amended, 7 U.S.C. 2276, which requires USDA to afford strict confidentiality to non-aggregated data provided by respondents. This Notice is submitted in accordance with the Paperwork Reduction Act of 1995, Public Law 104-13 (44 U.S.C. 3501, et seq.) and Office of Management and Budget regulations at 5 CFR part 1320. NASS also complies with OMB Implementation Guidance, “Implementation Guidance for Title V of the E-Government Act, Confidential Information Protection and Statistical Efficiency Act of 2002 (CIPSEA),” Federal Register, Vol. 72, No. 115, June 15, 2007, p. 33362. The law guarantees farm operators' individual information will be kept confidential. NASS uses the information only for statistical purposes and publishes only tabulated total data.

Comments: Comments are invited on NASS's follow-up process for 2017 Census of Agriculture non-respondents.

All responses to this notice will become a matter of public record.

Signed at Washington, DC, April 9, 2018.
Kevin L. Barnes,
Associate Administrator.

[FR Doc. 2018-08387 Filed 4-20-18; 8:45 am]

BILLING CODE 3410-20-P